OFFICE OF THE UNITED STATES TRADE REPRESENTATIVE

[Docket No. NAFTA/DS-USA-Mex-2007-2008-01]

NAFTA Dispute Settlement Proceeding by Mexico Regarding U.S. Measures Affecting Sweetener Trade With Mexico and Related NAFTA Dispute Settlement

AGENCY: Office of the United States Trade Representative.

ACTION: Notice; request for comments.

SUMMARY: The Office of the United States Trade Representative (USTR) is providing notice that on March 15, 2007, Mexico requested consultations, under Article 2006 of the North American Free Trade Agreement (“NAFTA”), regarding certain U.S. measures, proposed measures, and actions alleged to be affecting the markets for sugar, syrup goods and high fructose corn syrup or alleged to be inconsistent with NAFTA dispute settlement obligations. USTR invites written comments from the public concerning the issues raised in this dispute.

DATES: Although USTR will accept any comments received during the course of the consultations, comments should be submitted on or before June 4, 2007 to be assured of timely consideration by USTR.

ADDRESSES: Comments should be submitted (i) electronically, to FR0710@ustr.eop.gov, with “U.S. Sugar Measures (USA-Mex-2007-2008-01)” in the subject line, or (ii) by fax, to Sandy McKinzy at (202) 395-3640, with a confirmation copy sent electronically to the electronic mail address above, in accordance with the requirements for submission set out below.

FOR FURTHER INFORMATION CONTACT: Amy A. Karpel, Assistant General Counsel, Office of the United States Trade Representative, 600 17th Street, NW., Washington, DC (202) 395-3150.

SUPPLEMENTARY INFORMATION: USTR is providing notice that Mexico has requested consultations pursuant to Chapter Twenty of the NAFTA “Institutional Arrangements and Dispute Settlement Procedures” (Chapter Twenty).

Major Issues Raised by Mexico

On March 15, 2007, Mexico requested consultations with the United States regarding certain U.S. measures, proposed measures, and actions alleged to be affecting the markets for sugar, syrup goods and high fructose corn syrup or alleged to be inconsistent with NAFTA dispute settlement obligations. The measures at issue include, but are not limited to: (i) The alleged refusal of the United States to grant Mexican origin sugar access to the U.S. market in accordance with the provisions of Annex 703.2 and (ii) the alleged U.S. declining to appoint panelists and otherwise refusing to cooperate in the establishment of a panel and the operation of the dispute settlement mechanism of Chapter Twenty.

Mexico cites to the provisions of Chapters Three, Seven and Twenty of the NAFTA relating to trade in sugar, syrup goods and high fructose corn syrup.

Public Comment: Requirements for Submissions

Interested persons are invited to submit written comments concerning the issues raised in the dispute. Comments should be submitted (i) electronically, to FR0710@ustr.eop.gov, with “U.S. Sugar Measures (USA-Mex-2007-2008-01)” in the subject line, or (ii) by fax, to Sandy McKinzy at (202) 395-3640, with a confirmation copy sent electronically to the electronic mail address above.

USTR encourages the submission of documents in Adobe PDF format as attachments to an electronic mail. Interested persons who make submissions by electronic mail should not provide separate cover letters; information that might appear in a cover letter should be included in the submission itself. Similarly, to the extent possible, any attachments to the submission should be included in the same file as the submission itself, and not as separate files.

Comments must be in English. A person requesting that information contained in a comment submitted by that person be treated as confidential business information must certify that such information is business confidential and would not customarily be released to the public by the submitter. Confidential business information must be clearly designated as such and “Business Confidential” must be marked at the top and bottom of the cover page and each succeeding page. Persons who submit confidential business information are encouraged also to provide a non-confidential summary of the information.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

USTR will maintain a file on this dispute settlement proceeding, accessible to the public, in the USTR Reading Room, which is located at 1724 F Street, NW., Washington, DC 20508. The public file will include non-confidential comments received by USTR from the public with respect to the dispute; if an arbitral panel is convened, the U.S. submissions, the submissions or non-confidential summaries of submissions received from other participants in the dispute; and the report of the panel. The USTR Reading Room is open to the public, by appointment only, from 10 a.m. to noon and 1 p.m. to 4 p.m., Monday through Friday. An appointment to review the public file (Docket NAFTA/DS-USA-Mex-2007-2008-01 U.S. Sugar Measures Dispute) may be made by calling the USTR Reading Room at (202) 395-6186.

Daniel Brinza,
Assistant United States Trade Representative for Monitoring and Enforcement.

[FR Doc. 07-2554 Filed 5-21-07; 8:45 am]

BILLING CODE 3190-W7-P